RAILROAD RETIREMENT BOARD

Proposed Collection; Comment Request

Summary: In accordance with the requirement of Section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: Vocational Report; OMB 3220-0141. Under Section 2 of the Railroad Retirement Act (RRA) (45 U.S.C. 231a) provides for payment of disability annuities to qualified employees and widow(er)s. The establishment of permanent disability for work in the applicant's “regular occupation” or for work in any regular employment is prescribed in 20 CFR 220.12 and 220.13, respectively.

To enable the Railroad Retirement Board (RRB) to determine the effect of a disability on an applicant's ability to work, the RRB needs the applicant's work history. The RRB utilizes Form G-251, Vocational Report, to obtain this information.

Form G-251 is provided to all applicants for employee disability annuities and to those applicants for a widow(er)'s disability annuity who indicate that they have been employed at some time. Form G-251 is designed for use with the RRB's disability benefit application forms. Form G-251 is similar to Form SSA-3369-BK, OMB 0960-0578. The RRB proposes the no changes to the Form G-251.

Estimate of Annual Respondent Burden
Form No. | Annual responses | Time (minutes) | Burden (hours)
G-251 (with assistance) | 5,730 | 40 | 3,820
G-251 (without assistance) | 270 | 50 | 225
Total | 6,000 |  | 4,045

Additional information or comments: To request more information or to obtain a copy of the information collection justification, forms, and/or supporting material, contact Kennisha Tucker at (312) 469-2591 or Kennisha.Tucker@rrb.gov. Comments regarding the information collection should be addressed to Brian Foster, Railroad Retirement Board, 844 North Rush Street, Chicago, Illinois 60611-1275 or emailed to Brian.Foster@rrb.gov. Written comments should be received within 60 days of this notice.

Brian Foster,
Clearance Officer.

[FR Doc. 2020-02252 Filed 2-4-20; 8:45 am]

BILLING CODE 7905-01-P